DEPARTMENT OF LABOR

Employment and Training Administration

Workforce Security Programs: Unemployment Insurance Program Letters Interpreting Federal Law, UIPL 14-05 and UIPL 14-05, Change 1

AGENCY: Employment and Training Administration.

ACTION: Notice.

SUMMARY: In December 2002, the Employment and Training Administration (ETA) began a review of the performance management system for the Unemployment Insurance (UI) program. The review addressed the following topics: (a) The performance measures; (b) the criteria used to gauge success against the measures; and (c) the administration of UI Performs. ETA conducted the review in significant consultation with State Workforce Agencies (SWAs) and indirectly through the National Association of State Workforce Agencies' Subcommittee for UI Performs. ETA contracted with Mathematica Policy Research, Inc. to assist with the data analyses.

The review resulted in a recommendation that ETA publish a guidance to streamline the UI performance management system (UI Performs) in the following three significant ways: (1) Reduce the number of performance goals to a few “core” measures; (2) utilize the data of the remaining measures for program management with no performance goals; and (3) streamline the State Quality Service Plan narrative. In response, on June 16, 2004, ETA published UIPL No. 21-04, which outlined the proposed changes to UI Perform and invited public comments. (69 FR 33669 (2004)).

UIPL 14-05

At the end of the comment period, ETA issued UIPL 14-05 to advise SWAs of the changes made to UI Performs based on the recommendation and data of the comprehensive review and the comments received in response to the June 2004 UIPL. UIPL 14-05 also summarized the comments that were received in response to the June 2004 publication and established the effective dates for implementing the changes.

In order to fully implement the changes outlined in UIPL 14-05, ETA collected additional data to analyze and formulate policy on the definitions and to determine the Acceptable Levels of Performance (ALPs). Through this Notice, ETA is publishing UIPL 14-05, Change 1, which describes ETA's policy on these issues and the requirements for SWAs.

UIPL 14-05, Change 1

UIPL 14-05, Change 1 identifies the methodology used to measure performance and set the ALP for the detection of overpayments. In addition, this UIPL clarifies the methods for measuring the average age of pending lower and higher authority appeals and clarifies the implementation schedule for the tax quality measure corrective action plans.

DATES: UIPL 14-05 was effective on February 18, 2005. UIPL 14-05, Change 1 was effective on October 12, 2005.

FOR FURTHER INFORMATION CONTACT: Delores Mackall, Office of Workforce Security, Employment and Training Administration, 200 Constitution Avenue, NW., Room 4231, Washington, DC 20210. Telephone (202) 693-3183 (this is not a toll-free number). Individuals with hearing or speech impairments may access the telephone number above via TTY by calling the toll-free Federal Information Relay Service at (800) 877-8339.

SUPPLEMENTARY INFORMATION: Please go to http://wdr.doleta.gov/directives/ to view a copy of UIPL 14-05 and UIPL 14-05, Change 1.

Signed in Washington, DC, this 8th day of March, 2006.
Emily Stover DeRocco,
Assistant Secretary of Labor, Employment and Training Administration.

[FR Doc. E6-3839 Filed 3-15-06; 8:45 am]

BILLING CODE 4510-30-P